DEPARTMENT OF LABOR

Employment and Training Administration

[TA-W-52,430]

New York Airbrake Corporation, Watertown, NY; Notice of Termination of Investigation

Pursuant to Section 221 of the Trade Act of 1974, as amended, an investigation was initiated on July 31, 2003 in response to a petition filed by a company official on behalf of workers at New York Airbrake Corporation, Watertown, New York.

The petitioner has requested that the petition be withdrawn. Consequently, the investigation has been terminated.

Signed at Washington, DC this 5th day of September 2003.
Richard Church,
Certifying Officer, Division of Trade Adjustment Assistance.

[FR Doc. 03-27570 Filed 10-31-03; 8:45 am]

BILLING CODE 4510-30-P